DEPARTMENT OF HOMELAND SECURITY

[Docket No. DHS-2022-0047]

Homeland Security Advisory Council

AGENCY: Office of Partnership and Engagement (OPE), Department of Homeland Security (DHS).

ACTION: Notice of partially closed federal advisory committee meeting.

SUMMARY: The Homeland Security Advisory Council (HSAC or Council) will meet virtually via teleconference on Thursday, October 6, 2022. The meeting will be partially closed to the public.

DATES: The meeting will take place from 1:30 p.m. to 3:00 p.m. ET on Thursday, October 6, 2022. The meeting will be closed to the public from 1:45 p.m. to 3:00 p.m. EDT. The meeting will be open to the public from 1:30 p.m. to 1:45 p.m. EDT. The meeting may end early if the Council has completed its business.

Public Participation: Members of the public will be in listen-only mode. The public may register to participate in the open session of this meeting via teleconference through the following procedures. Each person must provide their full legal name and email address no later than 5:00 p.m. EDT on Tuesday, October 4, 2022 to the individual listed in the FOR FURTHER INFORMATION CONTACT section. The conference call details will be provided to interested members of the public after the public registration period closes and prior to the start of the meeting. For information on services for individuals with disabilities, or to request special assistance, contact the individual listed in the FOR FURTHER INFORMATION CONTACT section as soon as possible. Written public comments prior to the meeting must be received by 5:00 p.m. EDT on Tuesday, October 4, 2022, and must be identified by Docket No. DHS-2022-0047. Written public comments after the meeting must be identified by Docket No. DHS-2022-0047 and may be submitted by one of the following methods:

• Federal eRulemaking Portal: http://www.regulations.gov. Follow the instructions for submitting comments.

• Email: HSAC@hq.dhs.gov. Include Docket No. DHS-2022-0047 in the subject line of the message.

• Mail: Rebecca Sternhell, Executive Director of Homeland Security Advisory Council, Office of Partnership and Engagement, Mailstop 0385, Department of Homeland Security, 2707 Martin Luther King Jr Ave SE, Washington, DC 20528.

Instructions: All submissions received must include the words “Department of Homeland Security” and “DHS-2022-0047,” the docket number for this action. Comments received will be posted without alteration at http://www.regulations.gov, including any personal information provided. You may wish to review the Privacy and Security Notice which is available via a link on the homepage of http://www.regulations.gov.

Docket: You may provide your comments and read comments received by the Council, by going to http://www.regulations.gov, searching “DHS-2022-0047,” and selecting “Open Docket Folder.”

FOR FURTHER INFORMATION CONTACT: Rebecca Sternhell at 202-891-2876 or HSAC@hq.dhs.gov.

SUPPLEMENTARY INFORMATION: Notice of this meeting is given under Section 10(a) of the Federal Advisory Committee Act (FACA), Public Law 92-463 (5 U.S.C. appendix), which requires a portion of each FACA committee meeting to be open to the public unless the President, or the head of the agency to which the advisory committee reports, determines that a portion of the meeting may be closed to the public in accordance with 5 U.S.C. 552b(c).

The Council provides organizationally independent, strategic, timely, specific, actionable advice, and recommendations to the Secretary of Homeland Security on matters related to homeland security. The Council consists of senior executives from government, the private sector, academia, law enforcement, and non-governmental organizations.

The Council will meet in an open session between 1:30 p.m. to 1:45 p.m. ET. During the open session, the Council will receive a progress report from the Customer Experience and Service Delivery subcommittee.

The Council will meet in a closed session from 1:45 p.m. to 3:00 p.m. ET to participate in a sensitive discussion with DHS Secretary Alejandro N. Mayorkas regarding DHS operations. Basis for Partial Closure: In accordance with Section 10(d) of FACA, the Secretary of Homeland Security has determined this meeting must be closed during this session as the disclosure of the information relayed would be detrimental to the public interest for the following reasons:

The Council will participate in a sensitive operational discussion containing For Official Use Only and Law Enforcement Sensitive information. This discussion will include information regarding threats facing the United States and how DHS plans to address those threats. The session is closed pursuant to 5 U.S.C. 552b(c)(9)(B) because the disclosure of this information could significantly frustrate implementation of proposed agency actions.

Michael J. Miron,
Deputy Executive Director, Homeland Security Advisory Council, Department of Homeland Security.

[FR Doc. 2022-20565 Filed 9-21-22; 8:45 am]

BILLING CODE 9112-FN-P